DEPARTMENT OF ENERGY

Notice of Intent To Prepare a Supplemental Environmental Impact Statement for the Long-Term Management and Storage of Elemental Mercury

AGENCY: Department of Energy.

ACTION: Notice of intent.

SUMMARY: As required by the Mercury Export Ban Act of 2008 (the Act), the Department of Energy (DOE) plans to identify a facility or facilities for the long-term management and storage of elemental mercury generated in the United States. To this end, DOE intends to prepare a supplement to the January 2011 Environmental Impact Statement for the Long-Term Management and Storage of Elemental Mercury to analyze additional alternatives, in accordance with the National Environmental Policy Act (NEPA). This supplemental EIS (SEIS) will evaluate alternatives for a facility at and in the vicinity of the Waste Isolation Pilot Plant (WIPP) near Carlsbad, New Mexico.

DATES: DOE invites public comment on the scope of this SEIS until July 5, 2012. The first scoping meeting will be held on June 26, 2012, from 5:30 p.m.-8 p.m., at the Skeen-Whitlock Building auditorium at the U.S. DOE, Carlsbad Field Office, 4021 National Parks Highway, Carlsbad, New Mexico 88220. An open house will be held on the same day at the same location from 4:30 p.m.-5:30 p.m. A second scoping meeting will be held on June 28, 2012, from 6 p.m.-8:30 p.m. at the Crowne Plaza Albuquerque, 1901 University Blvd. NE., Albuquerque, New Mexico 87102. An open house will be held on the same day at the same location from 4:30 p.m.-6 p.m.

ADDRESSES: Written comments on the scope of the SEIS should be sent to: Mr. David Levenstein, Document Manager, Office of Environmental Compliance (EM-11), U.S. Department of Energy, Post Office Box 2612, Germantown, Maryland 20874; to the Mercury Storage EIS Web site at http://mercurystorageeis.com/; or via email to David.Levenstein@em.doe.gov.

This Notice will be available on the Internet at http://www.energy.gov/NEPA/ and on the project Web site at http://mercurystorageeis.com/.

FOR FURTHER INFORMATION CONTACT: To request further information about the SEIS or the Mercury Storage EIS, or to be placed on the SEIS distribution list, use any of the methods (mail, Web site, or email) listed under ADDRESSES above. In requesting a copy of the Draft SEIS, please specify a request for a paper copy of the Summary only; a paper copy of the full SEIS; the full SEIS on a computer CD; or any combination thereof.

For general information concerning DOE's NEPA process, please contact: Ms. Carol M. Borgstrom, Director, Office of NEPA Policy and Compliance (GC-54), U.S. Department of Energy, 1000 Independence Avenue SW., Washington, DC 20585, either by telephone at (202) 586-4600, by fax at (202) 586-7031, or leave a message at 1-800-472-2756.

SUPPLEMENTARY INFORMATION:

Background

The Mercury Export Ban Act of 2008 (Pub. L. 110-414) amends the Toxic Substances Control Act (TSCA) (15 U.S.C. 2605(f)) to prohibit the sale, distribution, or transfer by Federal agencies to any other Federal agency, any state or local government agency, or any private individual or entity, of any elemental mercury under the control or jurisdiction of a Federal agency (with certain limited exceptions). It also amends TSCA (15 U.S.C. 2611(c)) to prohibit the export of elemental mercury from the U.S. effective January 1, 2013 (subject to certain essential use exemptions). Section 5 of the Act, Long-Term Storage, directs DOE to designate a facility or facilities for the long-term management and storage of elemental mercury generated within the U.S. Pursuant to this law, this facility is required to be operational and ready to accept custody of any elemental mercury generated within the U.S. by January 1, 2013. The Act also requires DOE to assess fees based upon the pro rata costs of long-term management and storage of elemental mercury delivered to the facility or facilities.

The sources of elemental mercury in the U.S. include mercury used in the chlorine and caustic soda manufacturing process (i.e., chlor-alkali industry), reclaimed from recycling and waste recovery activities, and generated as a byproduct of the gold mining process. In addition, DOE's National Nuclear Security Administration stores approximately 1,200 metric tons of elemental mercury at the Oak Ridge Reservation in Tennessee.

To evaluate the range of reasonable alternatives for siting, constructing and operating a facility or facilities to meet its obligations under the Act, DOE prepared the Mercury Storage EIS (DOE/EIS-0423) in accordance with NEPA and its implementing regulations (40 CFR parts 1500-1508 and 10 CFR part 1021) and issued the Mercury Storage Final EIS in January 2011 (76 FR 5156). DOE estimated that up to approximately 10,000 metric tons of elemental mercury would need to be managed and stored at the DOE facility during the 40-year period of analysis. These estimates do not include approximately 4,400 metric tons of elemental mercury that the Department of Defense (DOD) stores at its facility in Hawthorne, Nevada.

Purpose and Need for Action

As indicated in the Mercury Storage EIS, DOE needs to designate a facility for the long-term management and storage of elemental mercury generated within the U.S., as required by the Act.

Proposed Action

As also indicated in the Mercury Storage EIS, DOE proposes to construct one or more new facilities and/or select one or more existing facilities (including modification as needed) for the long-term management and storage of elemental mercury in accordance with the Act. Facilities to be constructed as well as existing or modified facilities must comply with applicable requirements of section 5(d) of the Act, Management Standards for a Facility, including the requirements of the Solid Waste Disposal Act as amended by the Resource Conservation and Recovery Act (42 U.S.C. 6901 et seq.), and other permitting requirements.

Proposed Alternatives

The Mercury Storage EIS evaluated seven candidate locations for the elemental mercury storage facility, as well as the No Action Alternative. Those candidate locations are: DOE Grand Junction Disposal site near Grand Junction, Colorado; DOE Hanford site near Richland, Washington; Hawthorne Army Depot near Hawthorne, Nevada; DOE Idaho National Laboratory near Idaho Falls, Idaho; DOE Kansas City Plant in Kansas City, Missouri; DOE Savannah River Site near Aiken, South Carolina; and Waste Control Specialists, LLC, site near Andrews, Texas.

Since publication of the Final Mercury Storage EIS, DOE has reconsidered the range of reasonable alternatives evaluated in that EIS. Accordingly, DOE now proposes to evaluate two additional locations for a long-term mercury storage facility, both near the Waste Isolation Pilot Plant (WIPP), which DOE operates for disposal of defense transuranic waste. One of the additional locations to be evaluated is in Section 20, Township 22 South, Range 31 East within the land subject to the WIPP Land Withdrawal Act (Pub. L. 102-579) as amended (Act), across the WIPP access road from the WIPP facility. The second is in the vicinity of WIPP, but outside of the lands withdrawn by the Act, in Section 10, Township 22 South, Range 31 East, approximately 3½ miles north of the WIPP facility. Through development of the SEIS, DOE will evaluate the cumulative impacts of constructing and operating a facility for long-term management and storage of elemental mercury with the ongoing and planned operations of WIPP for disposal of defense transuranic waste, as well as the potential disposal of greater-than-Class C waste (Draft Environmental Impact Statement for the Disposal of Greater-Than-Class C (GTCC) Low-level Radioactive Waste and GTCC-Like Waste (GTCC EIS, DOE/EIS-0375, February 2011). The locations to be evaluated in the SEIS would be suitable for an above-ground storage facility.

Identification of Environmental Issues

DOE proposes to analyze the potential environmental impacts of the two additional alternatives for management and storage of elemental mercury as they apply to the following:

• Land use and visual resources.

• Geology, soils, and geologic hazards, including seismicity.

• Water resources (surface water and groundwater).

• Meteorology, air quality and noise.

• Ecological resources (terrestrial resources, wetlands and aquatic resources, and species that are Federal- or state-listed as threatened, endangered, or of special concern).

• Cultural and paleontological resources such as prehistoric, historic, or Native American sites.

• Site infrastructure.

• Waste management.

• Occupational and public health and safety, including from construction, operations, facility accidents, transportation, and intentional destructive acts.

• Ecological risk.

• Socioeconomic impacts on potentially affected communities.

• Environmental Justice (i.e., whether long-term mercury management and storage activities have a disproportionately high and adverse effect on minority and low-income populations).

• Facility closure.

• Cumulative impacts, including global commons cumulative impacts, i.e., ozone depletion and climate change.

• Potential mitigation measures.

• Unavoidable adverse environmental impacts.

• Irreversible and irretrievable commitments of resources.

• Relationship between short-term uses of the environment and maintenance and enhancement of long-term productivity.

Public Participation in the SEIS Process

NEPA implementing regulations require an early and open process for determining the scope of an EIS (or SEIS) and for identifying the significant issues related to the proposed action. To ensure that the full range of issues related to the proposed action are addressed, DOE invites Federal agencies, state, local, and tribal governments, and the general public to comment on the scope of the SEIS, including identification of reasonable alternatives and specific issues to be addressed. DOE will hold a public scoping meeting in Carlsbad, New Mexico, on June 26, 2012, and in Albuquerque, New Mexico, on June 28, 2012, as previously described (see DATES).

Issued in Washington, DC, on May 24, 2012.
Mark A. Gilbertson,
Deputy Assistant Secretary for Site Restoration.

[FR Doc. 2012-13614 Filed 6-4-12; 8:45 am]

BILLING CODE 6450-01-P